DEPARTMENT OF HEALTH AND HUMAN SERVICES

Meeting of the National Advisory Committee on Children and Disasters

AGENCY: Office of the Secretary, Department of Health and Human Services.

ACTION: Notice.

SUMMARY: As stipulated by the Federal Advisory Committee Act, the Department of Health and Human Services (HHS) is hereby giving notice that the National Advisory Committee on Children and Disasters (NACCD) will hold a public meeting on September 7, 2017.

DATES: The NACCD meeting is September 7, 2017, from 3:00 p.m. to 4:00 p.m. EST.

ADDRESSES: We encourage members of the public to attend the teleconference. To register, go to https://www.phe.gov/naccd and click on the Contact Us link to open the Contact NACCD form, and then fill out the form with NACCD Registration in the subject line. Submit your comments on the NACCD Contact Form located at https://www.phe.gov/NACCDComments.

FOR FURTHER INFORMATION CONTACT: CDR Evelyn Seel, (202) 205-7960, evelyn.seel@hhs.gov. Visit the NACCD Web site located at https://www.phe.gov/naccd.

SUPPLEMENTARY INFORMATION: Pursuant to the Federal Advisory Committee Act (FACA) of 1972 (5 U.S.C., Appendix, as amended), and section 2811A of the Public Health Service (PHS) Act (42 U.S.C. 300hh-10a), as added by section 103 of the Pandemic and All-Hazards Preparedness Reauthorization Act of 2013 (Pub. L. 113-5), the HHS Secretary, in consultation with the Secretary of the U.S. Department of Homeland Security, established the NACCD. The purpose of the NACCD is to provide advice and consultation to the HHS Secretary with respect to the medical and public health needs of children in relation to disasters.

Background: The NACCD public meeting on September 7, 2017, is dedicated to the deliberation and vote on the Human Services Working Group Report. We will post modifications to the agenda on the NACCD September 7, 2017 meeting Web page, which is located at https://www.phe.gov/naccd.

Availability of Materials: We will post all meeting materials prior to the meeting on the NACCD September 7, 2017 meeting Web page located at https://www.phe.gov/naccd.

Procedures for Providing Public Input: Members of the public attend by teleconference via a toll-free call-in phone number, which is available on the NACCD Web site at http://www.phe.gov/naccd.

We encourage members of the public to provide written comments that are relevant to the NACCD teleconference prior to September 7, 2017. Send written comments by email via the “Contact Us” link on https://www.phe.gov/naccd with “NACCD Public Comment” in the subject line. The NACCD will respond to comments received by close-of-business September 7, 2017, during the meeting.

Dated: July 13, 2017.
George W. Korch Jr.,
Acting Assistant Secretary for Preparedness and Response.

[FR Doc. 2017-15853 Filed 8-1-17; 8:45 am]

BILLING CODE P